DEPARTMENT OF ENERGY

Federal Energy Regulatory Commission

Combined Notice of Filings #1

April 14, 2009.

Take notice that the Commission received the following electric rate filings:

Docket Numbers: ER00-2398-009; ER99-3427-007.

Applicants: Baconton Power LLC.

Description: Update to Application of SOWEGA Power LLC and Baconton Power LLC for Determination of Category 1 Status.

Filed Date: 12/30/2008.

Accession Number: 20081230-5029.

Comment Date: 5 p.m. Eastern Time on Friday, April 24, 2009.

Docket Numbers: ER09-486-002.

Applicants: Ashtabula Wind, LLC.

Description: Refund Report of Ashtabula Wind, LLC.

Filed Date: 04/10/2009.

Accession Number: 20090410-5042.

Comment Date: 5 p.m. Eastern Time on Friday, May 01, 2009.

Docket Numbers: ER09-553-001.

Applicants: Vista Energy Marketing, LP.

Description: Vista Energy Marketing, LP supplements its 1/26/09 application for market based rate authority etc.

Filed Date: 04/10/2009.

Accession Number: 20090413-0142.

Comment Date: 5 p.m. Eastern Time on Friday, May 01, 2009.

Docket Numbers: ER09-799-001.

Applicants: Sempra Energy Trading, LLC.

Description: Sempra Energy Trading, LLC submits an amendment to their FERC Electric Tariff, Original Volume 2.

Filed Date: 04/09/2009.

Accession Number: 20090410-0174.

Comment Date: 5 p.m. Eastern Time on Thursday, April 30, 2009.

Docket Numbers: ER09-980-000.

Applicants: WSPP Inc.

Description: WSPP Inc submits Second Revised Sheet 90A et al. to its FERC Rate Schedule 6.

Filed Date: 04/10/2009.

Accession Number: 20090413-0146.

Comment Date: 5 p.m. Eastern Time on Friday, May 01, 2009.

Docket Numbers: ER09-981-000.

Applicants: New York Independent System Operator, Inc.

Description: New York Independent System Operator, Inc submits for acceptance Seventh Revised Sheet 3 et al. to FERC Electric Tariff, Original Volume 2.

Filed Date: 04/10/2009.

Accession Number: 20090413-0145.

Comment Date: 5 p.m. Eastern Time on Friday, May 01, 2009.

Docket Numbers: ER09-982-000.

Applicants: Black Hills Power, Inc.

Description: Black Hills Power, Inc submits for acceptance Original Volume 1 to FERC Electric Rate Schedule 37 etc. re Transmission Interconnection Agreement with Basin Electric Power Cooperative et al.

Filed Date: 04/10/2009.

Accession Number: 20090413-0144.

Comment Date: 5 p.m. Eastern Time on Friday, May 01, 2009.

Docket Numbers: ER09-983-000.

Applicants: Black Hills Power, Inc.

Description: Black Hills Power, Inc submits for acceptance Original Volume 1 to FERC Electric Rate Schedule 37 etc. re Transmission Interconnection Agreement with Basin Electric Power Cooperative et al.

Filed Date: 04/10/2009.

Accession Number: 20090413-0144.

Comment Date: 5 p.m. Eastern Time on Friday, May 01, 2009.

Docket Numbers: ER09-984-000.

Applicants: New York Independent System Operator, Inc.

Description: New York Independent System Operator, Inc submits for acceptance Second Revised Sheet 12 et al to FERC Electric Tariff, Original Volume 1.

Filed Date: 04/10/2009.

Accession Number: 20090413-0143.

Comment Date: 5 p.m. Eastern Time on Friday, May 01, 2009.

Take notice that the Commission received the following electric securities filings:

Docket Numbers: ES09-26-000.

Applicants: California Independent System Operator Corporation.

Description: Application of California Independent System Operator Corporation under Section 204 of the Federal Power Act for an Order Authorizing the Issuance of Securities.

Filed Date: 04/10/2009.

Accession Number: 20090410-5113.

Comment Date: 5 p.m. Eastern Time on Friday, May 01, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-9113 Filed 4-20-09; 8:45 am]

BILLING CODE 6717-01-P